DEPARTMENT OF HOMELAND SECURITY

Federal Emergency Management Agency

44 CFR Part 67

[Docket ID FEMA-2010-0003; Internal Agency Docket No. FEMA-B-1109]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before September 1, 2010.

ADDRESSES: The corresponding preliminary Flood Insurance Rate Map (FIRM) for the proposed BFEs for each community is available for inspection at the community's map repository. The respective addresses are listed in the table below.

You may submit comments, identified by Docket No. FEMA-B-1109, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | *Elevation in feet (NGVD) +Elevation in feet (NAVD) #Depth in feet above ground ‸Elevation in meters (MSL): Effective | *Elevation in feet (NGVD) +Elevation in feet (NAVD) #Depth in feet above ground ‸Elevation in meters (MSL): Modified | Communities affected
Franklin Parish, Louisiana, and Incorporated Areas
Ash Slough | Just upstream of Riser Road | None | +69 | Unincorporated Areas of Franklin Parish.
| Approximately 700 feet downstream of Wyman Road | None | +70
Batey Bayou | Just downstream of Kansas Street | None | +65 | Town of Wisner, Unincorporated Areas of Franklin Parish.
| Approximately 800 feet upstream of State Highway 15 | None | +72
Cypress Slough | Just upstream of Kansas Street | None | +65 | Unincorporated Areas of Franklin Parish.
| Just downstream of Maple Street | None | +73
Turkey Creek | Approximately 500 feet upstream of Highway 3201 | None | +64 | Unincorporated Areas of Franklin Parish.
| Approximately 0.5 mile upstream of Alice Shaw Road | None | +69
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Wisner
Maps are available for inspection at the Town Hall, 9530 Natchez Street, Wisner, LA 71378.
Unincorporated Areas of Franklin Parish.
Maps are available for inspection at the Franklin Parish Police Jury, 6558 Main Street, Winnsboro, LA 71295.
Madison Parish, Louisiana, and Incorporated Areas
Bayou Macon | Just upstream of Atkins Road | None | +75 | Unincorporated Areas of Madison Parish.
| Just downstream of Bryant Road | None | +79
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
Unincorporated Areas of Madison Parish
Maps are available for inspection at Madison Parish Police Jury, 100 North Cedar Street, Tallulah, LA 71282.
Gallatin County, Montana, and Incorporated Areas
Bridger Creek | Approximately 1.0 mile downstream of Story Mill Road | +4687 | +4688 | City of Bozeman.
| Just downstream of Story Mill Road | +4730 | +4731
Buster Gulch | Approximately 0.9 mile upstream of Airport Road | +4478 | +4480 | Unincorporated Areas of Gallatin County.
| Approximately 4.2 miles upstream of Airport Road | None | +4568
East Gallatin River | Just downstream of Airport Road | +4461 | +4463 | City of Bozeman, Unincorporated Areas of Gallatin County.
| Approximately 2.1 miles downstream of Story Hill Road | +4789 | +4791
East Gallatin River Golf Course Reach | Just upstream of the confluence with East Gallatin River Springhill Reach | None | +4604 | City of Bozeman.
| Approximately 0.5 mile upstream of the confluence with East Gallatin River Springhill Reach | None | +4617
East Gallatin River Overflow Reach | Approximately 1,300 feet downstream of Springhill Road | None | +4596 | City of Bozeman, Unincorporated Areas of Gallatin County.
| Approximately 2.6 miles upstream of Springhill Road | None | +4674
East Gallatin River Spillway Reach | Just upstream of the confluence with East Gallatin River Overflow Reach | None | +4591 | City of Bozeman.
| Approximately 0.5 mile upstream of the confluence with East Gallatin River Overflow Reach | None | +4603
East Gallatin River Springhill Reach | Just upstream of the confluence with the East Gallatin River | None | +4594 | City of Bozeman.
| Just downstream of the confluence with East Gallatin River Golf Course Reach | None | +4604
Jefferson River | Approximately 0.6 mile downstream of Old Town Road | +4058 | +4061 | Unincorporated Areas of Gallatin County.
| Approximately 120 feet upstream of Frontage Road | +4088 | +4090
Madison River | Approximately 0.8 mile downstream of Frontage Road | +4054 | +4058 | Unincorporated Areas of Gallatin County.
| Approximately 1.2 mile upstream of I-90 | +4081 | +4083
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
City of Bozeman
Maps are available for inspection at 411 East Main Street, Bozeman, MT 59771.
Unincorporated Areas of Gallatin County
Maps are available for inspection at 311 West Main Street, Bozeman, MT 59771.
Lincoln County, New Mexico, and Incorporated Areas
Brady Canyon | At the confluence with the Rio Ruidoso | +6744 | +6746 | Unincorporated Areas of Lincoln County, Village of Ruidoso.
| Approximately 1,100 feet upstream of Ash Drive | None | +6948
Carrizo Creek | At the confluence with the Rio Ruidoso | +6552 | +6553 | Unincorporated Areas of Lincoln County, Village of Ruidoso.
| Just upstream of Carrizo Canyon Road | +6749 | +6751
Cedar Creek | At the confluence with the Rio Ruidoso | +6530 | +6534 | Unincorporated Areas of Lincoln County, Village of Ruidoso.
| Approximately 500 feet upstream of Musket Ball Drive | None | +7160
Cherokee Bill Canyon | At the confluence with the Rio Ruidoso | +6445 | +6446 | Unincorporated Areas of Lincoln County, Village of Ruidoso.
| Approximately 1,800 feet upstream of Dunagan Trail | +6690 | +6693
Musketball Creek | Just upstream of Cedar Creek Drive | None | +7150 | Unincorporated Areas of Lincoln County.
| Approximately 285 feet upstream of Musketball Drive | None | +7216
North Fork Cedar Creek | Approximately 1,750 feet downstream of Spring Canyon Road | None | +7160 | Unincorporated Areas of Lincoln County.
| Just downstream of Watson Road | None | +7302
Rio Bonito | Approximately 650 feet downstream of State Highway 48 | None | +6845 | Unincorporated Areas of Lincoln County.
| Just downstream of the Bonito Lake Dam | None | +7318
Rio Ruidoso | Approximately 1.0 mile downstream of County Road 17 | None | +5188 | Unincorporated Areas of Lincoln County, Village of Ruidoso, Village of Ruidoso Downs.
| Approximately 800 feet upstream of Malone Road | +7167 | +7168
Salado Creek | Approximately 320 feet upstream of U.S. Route 380 | None | +6382 | Unincorporated Areas of Lincoln County, Village of Capitan.
| Approximately 110 feet upstream of Dean Drive | None | +6484
South Fork Cedar Creek | Approximately 480 feet downstream of Chuck Wagon Road | None | +7160 | Unincorporated Areas of Lincoln County.
| Approximately 330 feet upstream of Jarratt Drive | None | +7233
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
Unincorporated Areas of Lincoln County
Maps are available for inspection at the County Floodplain Manager's Office, 115 Kansas City Road, Ruidoso, NM 88345.
Village of Capitan
Maps are available for inspection at the County Floodplain Manager's Office, 115 Kansas City Road, Ruidoso, NM 88345.
Village of Ruidoso
Maps are available for inspection at 313 Cree Meadows Drive, Ruidoso, NM 88345.
Village of Ruidoso Downs
Maps are available for inspection at the Planning and Zoning Department, 313 Cree Meadows Drive, Ruidoso, NM 88345.
Fairfield County, Ohio, and Incorporated Areas
Baltimore Tributary | At the confluence with Pawpaw Creek | None | +847 | Unincorporated Areas of Fairfield County, Village of Baltimore.
| Approximately 0.41 mile downstream of Roley Road | None | +860
Buckeye Lake | Entire shoreline | None | +893 | Unincorporated Areas of Fairfield County, Village of Millersport.
Clark Run | At the confluence with Rush Creek | +807 | +804 | Unincorporated Areas of Fairfield County.
| Approximately 586 feet upstream of the confluence with Rush Creek | +807 | +805
Claypool Run | At the confluence with the Ohio Canal | +839 | +838 | Unincorporated Areas of Fairfield County.
| Approximately 200 feet downstream of Brook Road | None | +909
Crumley Creek | At the confluence with Hunters Run | +908 | +905 | Unincorporated Areas of Fairfield County.
| Approximately 850 feet upstream of the confluence with Hunters Run | +908 | +914
Georges Creek | Approximately 1,588 feet downstream of Conrail Railroad | +800 | +798 | City of Pickerington.
| At the upstream side of Pickerington Ridge Road | None | +815
Greenfield Creek | At the confluence with the Ohio Canal | +833 | +830 | Unincorporated Areas of Fairfield County.
| Approximately 1,400 upstream of Coonpath Road | None | +898
Greenfield Creek Escape | At the confluence with Claypool Run | +840 | +839 | Unincorporated Areas of Fairfield County.
| Approximately 2,000 feet downstream of Election House Road | +858 | +854
Greenfield Creek Split | At the confluence with Greenfield Creek | None | +865 | Unincorporated Areas of Fairfield County.
| Approximately 2,000 feet upstream of the confluence with Greenfield Creek | None | +872
Hocking River | Approximately 100 feet downstream of Sugar Grove Road | +807 | +808 | City of Lancaster, Unincorporated Areas of Fairfield County.
| Approximately 650 feet upstream of the confluence with Wilson Creek | None | +886
Hocking River Lateral D | At the confluence with the Hocking River | +830 | +826 | City of Lancaster.
| Approximately 125 feet downstream of Collins Road | +834 | +830
Hunters Run | At the confluence with the Hocking River | +819 | +815 | City of Lancaster, Unincorporated Areas of Fairfield County.
| Approximately 250 feet downstream of Mt. Zion Road | None | +967
Ohio Canal | At the confluence with the Hocking River | +831 | +825 | City of Lancaster, Unincorporated Areas of Fairfield County.
| At the confluence with Ohio Canal Lateral A | +841 | +844
Ohio Canal Lateral A | At the confluence with the Ohio Canal | +841 | +844 | Unincorporated Areas of Fairfield County.
| Approximately 705 feet downstream of U.S. Route 33 | +846 | +848
Pawpaw Creek | At the confluence with Walnut Creek | None | +844 | Unincorporated Areas of Fairfield County, Village of Baltimore.
| Approximately 1,169 feet upstream of North Main Street | None | +868
Rush Creek | Approximately 0.8 mile downstream of the confluence with Clark Run | +802 | +800 | Unincorporated Areas of Fairfield County.
| Approximately 283 feet upstream of the confluence with Clark Run | +807 | +803
South Fork Licking River | At the upstream side of Walnut Road at the west crossing of the South Fork Licking River | +890 | +886 | Unincorporated Areas of Fairfield County.
| At the upstream side of Walnut Road at the east crossing of the South Fork Licking River | +885 | +892
Stonewall Creek | At the confluence with Hunters Run | +861 | +860 | Unincorporated Areas of Fairfield County.
| Approximately 0.46 mile upstream of U.S. Route 22 | None | +899
Sycamore Creek | At the confluence with Walnut Creek | +772 | +773 | City of Pickerington, Unincorporated Areas of Fairfield County.
| Approximately 505 feet upstream of DeCarlo Lane | None | +1019
Tributary B | At the upstream side of Paradise Road | None | +791 | Unincorporated Areas of Fairfield County.
| Approximately 956 feet upstream of Paradise Road | None | +791
Unnamed Tributary to Sycamore Creek | At the confluence with Sycamore Creek | +840 | +841 | City of Pickerington, Unincorporated Areas of Fairfield County.
| Approximately 0.44 mile upstream of Doty Road | None | +881
Unnamed Tributary to Walnut Creek (Backwater effects from Walnut Creek) | At the confluence with Walnut Creek | None | +867 | Unincorporated Areas of Fairfield County, Village of Thurston.
| Approximately 1,240 feet upstream of the confluence with Walnut Creek | None | +867
Willow Run | At the confluence with Sycamore Creek | +815 | +816 | City of Pickerington, Unincorporated Areas of Fairfield County.
| Approximately 250 feet downstream of Refugee Road | None | +918
Wilson Creek | At the confluence with the Hocking River | None | +884 | Unincorporated Areas of Fairfield County.
| Approximately 200 feet downstream of Mt. Zion Road | None | +903
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street SW., Washington, DC 20472.
ADDRESSES
City of Lancaster
Maps are available for inspection at 121 East Chestnut Street, Lancaster, OH 43130.
City of Pickerington
Maps are available for inspection at 100 Lockville Road, Pickerington, OH 43147.
Unincorporated Areas of Fairfield County
Maps are available for inspection at 210 East Main Street, Lancaster, OH 43130.
Village of Baltimore
Maps are available for inspection at 103 West Market Street, Baltimore, OH 42105.
Village of Millersport
Maps are available for inspection at 2245 Refugee Street, Millersport, OH 43046.
Village of Thurston
Maps are available for inspection at 2215 Main Street, Thurston, OH 43157.

(Catalog of Federal Domestic Assistance No. 97.022, “Flood Insurance.”)

Dated: May 14, 2010.
Sandra K. Knight,
Deputy Federal Insurance and Mitigation Administrator, Mitigation, Department of Homeland Security, Federal Emergency Management Agency.

[FR Doc. 2010-13269 Filed 6-2-10; 8:45 am]

BILLING CODE 9110-12-P